DEPARTMENT OF THE INTERIOR

National Park Service

[NPS-WASO-NAGPRA-NPS0040030; PPWOCRADN0-PCU00RP14.R50000]

Notice of Inventory Completion: University of California, Berkeley, Berkeley, CA

AGENCY: National Park Service, Interior.

ACTION: Notice.

SUMMARY: In accordance with the Native American Graves Protection and Repatriation Act (NAGPRA), the University of California, Berkeley has completed an inventory of human remains and associated funerary objects and has determined that there is a cultural affiliation between the human remains and associated funerary objects and Indian Tribes or Native Hawaiian organizations in this notice.

DATES: Repatriation of the human remains and associated funerary objects in this notice may occur on or after May 30, 2025.

ADDRESSES: Alexandra Lucas, University of California, Berkeley, 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in the inventory or related records. The National Park Service is not responsible for the determinations in this notice.

Abstract of Information Available

Based on the information available, ancestral remains representing at least 1,299 individuals have been reasonably identified. The 17,785 lots of associated funerary objects include abraders, acorns, faunal remains, arrow straighteners, projectile points, lithics, ash, bone tools, baked clay, ground stone, basket impressions, basketry, beads, worked bone, samples, botanicals, minerals, fragments, stone tools, vessels, fasteners, pipes, ornaments, jewelry, weapons, cordage, figurines, whistles, fishing implements, worked stone, mullers, piercing tools, soil, porcelain, shell, and pottery.

Beginning in at least 1890 and through to 1994, various individuals removed at minimum, 1,299 ancestors and 17,785 lots of associated funerary objects from the following sites and areas in Sacramento County, California: CA-SAC-1, CA-SAC-10, CA-SAC-100, CA-SAC-103, CA-SAC-104, CA-SAC-105, CA-SAC-106, CA-SAC-107, CA-SAC-109, CA-SAC-11, CA-SAC-111, CA-SAC-112, CA-SAC-113, CA-SAC-115, CA-SAC-116, CA-SAC-117, CA-SAC-119, CA-SAC-120, CA-SAC-121, CA-SAC-122, CA-SAC-124, CA-SAC-125, CA-SAC-126, CA-SAC-134, CA-SAC-145, CA-SAC-151, CA-SAC-152, CA-SAC-158, CA-SAC-161, CA-SAC-162, CA-SAC-165, CA-SAC-168, CA-SAC-187, CA-SAC-188, CA-SAC-19, CA-SAC-191, CA-SAC-2, CA-SAC-20, CA-SAC-21, CA-SAC-211, CA-SAC-24, CA-SAC-240, CA-SAC-247, CA-SAC-248, CA-SAC-25, CA-SAC-262, CA-SAC-263, CA-SAC-265, CA-SAC-35, CA-SAC-43, CA-SAC-45, CA-SAC-49, CA-SAC-52, CA-SAC-53, CA-SAC-54, CA-SAC-56, CA-SAC-59, CA-SAC-6, CA-SAC-60, CA-SAC-62, CA-SAC-63, CA-SAC-64, CA-SAC-66, CA-SAC-68, CA-SAC-7, CA-SAC-71, CA-SAC-72, CA-SAC-73, CA-SAC-75, CA-SAC-8, CA-SAC-83, CA-SAC-84, CA-SAC-85, CA-SAC-86, CA-SAC-87, CA-SAC-88, CA-SAC-9, CA-SAC-91, CA-SAC-93, CA-SAC-94, CA-SAC-95, CA-SAC-96, Sacramento Valley, Delta, Sacramento County, Thistle Mound, Tyler Island, and 16 unspecified locations in Sacramento County documented within museum records under: CA-SAC-NL-10 (Dalton site 1), CA-SAC-NL-12 (Dalton site 2), CA-SAC-NL-14 (Dalton site 3), CA-SAC-NL-17, CA-SAC-NL-19, CA-SAC-NL-20, CA-SAC-NL-3 (Freeport District), CA-SAC-NL-4, CA-SAC-NL-5 Walnut Grove, CA-SAC-NL-6 (Rosebud Ranch), CA-SAC-NL-7 (Dalton Mound), CA-SAC-NL-8 (Tyler Island). The 1,299 ancestors and 17,785 lots of associated funerary objects were accessioned by the University of California, Berkeley's Museum of Anthropology (Phoebe A. Hearst Museum of Anthropology) between 1903 and 1994.

Collections and collection spaces at the Phoebe A Hearst Museum of Anthropology were treated with substances for preservation and pest control, some potentially hazardous. No records have been found to date at the Museum to indicate whether or not chemicals or natural substances were used prior to 1960.

Cultural Affiliation

Based on the information available and the results of consultation, cultural affiliation is reasonably identified by the geographical location or acquisition history of the human remains and associated funerary objects described in this notice.

Determinations

The University of California, Berkeley has determined that:

• The human remains described in this notice represent the physical remains of, at minimum, 1,299 individuals of Native American ancestry.

• The 17,785 lots of objects described in this notice are reasonably believed to have been placed intentionally with or near individual human remains at the time of death or later as part of the death rite or ceremony.

• There is a reasonable connection between the human remains and associated funerary objects described in this notice and the Buena Vista Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 30, 2025. If competing requests for repatriation are received, the University of California, Berkeley must determine the most appropriate requestor prior to repatriation. Requests for joint repatriation of the human remains and associated funerary objects are considered a single request and not competing requests. The University of California, Berkeley is responsible for sending a copy of this notice to the Indian Tribes and Native Hawaiian organizations identified in this notice.

Authority: Native American Graves Protection and Repatriation Act, 25 U.S.C. 3003, and the implementing regulations, 43 CFR 10.10.

Dated: April 15, 2025.
Melanie O'Brien,
Manager, National NAGPRA Program.

[FR Doc. 2025-07437 Filed 4-29-25; 8:45 am]

BILLING CODE 4312-52-P